DEPARTMENT OF HEALTH AND HUMAN SERVICES

National Institutes of Health

Center for Scientific Review Amended Notice of Meeting

Notice is hereby given of a change in the meeting of the Center for Scientific Review Special Emphasis Panel, October 16, 2013, 10:00 a.m. to October 16, 2013, 11:00 a.m., National Institutes of Health, 6701 Rockledge Drive, Bethesda, MD 20892, which was published in the Federal Register on September 26, 2013, 78 FR 187 Pg. 59362.

The meeting will start on December 2, 2013 at 3:00 p.m. and end on December 2, 2013 at 4:00 p.m. The meeting location remains the same. The meeting is closed to the public.

Dated: October 29, 2013.
Melanie J. Gray,
Program Analyst, Office of Federal Advisory Committee Policy.

[FR Doc. 2013-26215 Filed 11-1-13; 8:45 am]

BILLING CODE 4140-01-P